ENVIRONMENTAL PROTECTION AGENCY

[FRL-9933-28-OA]

Notification of a Public Teleconference of the Chartered Science Advisory Board

AGENCY: Environmental Protection Agency (EPA).

ACTION: Notice.

SUMMARY: The EPA Science Advisory Board (SAB) Staff Office announces a public teleconference of the Chartered SAB to discuss information provided in the agency's Spring 2015 regulatory agenda and to review the draft SAB report on the EPA's proposed Fourth Contaminant Candidate List (CCL 4).

DATES: The public teleconference for the Chartered SAB will be held on Thursday, September 24, 2015, from 11:00 a.m. to 1:30 p.m. (Eastern Time).

ADDRESSES: The public teleconference will be conducted by telephone only.

FOR FURTHER INFORMATION CONTACT: Any member of the public wishing to obtain information concerning the public teleconference may contact Mr. Thomas Carpenter, Designated Federal Officer (DFO), EPA Science Advisory Board Staff Office (1400R), U.S. Environmental Protection Agency, 1200 Pennsylvania Avenue NW., Washington, DC 20460; by telephone/voice mail at (202) 564-4885 or at carpenter.thomas@epa.gov. General information about the SAB as well as any updates concerning the teleconference announced in this notice may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The SAB is a federal advisory committee chartered under the Federal Advisory Committee Act (FACA), 5 U.S.C., App. 2. Pursuant to FACA and EPA policy, notice is hereby given that the Chartered SAB will hold a public teleconference for two purposes.

(1) The first purpose is to discuss recommendations regarding the information provided in the agency's Spring 2015 regulatory agenda, specifically planned actions and their supporting science. Information about this advisory activity can be found on the Web at http://yosemite.epa.gov/sab/sabproduct.nsf/fedrgstr_activites/SAB%20Spring%202015%20Reg%20Agenda?OpenDocument.

(2) The second purpose of this public teleconference is to review a draft SAB report on the EPA's proposed Fourth Contaminant Candidate List (CCL 4). Quality review is a key function of the chartered SAB. Draft reports prepared by SAB committees, panels, or work groups must be reviewed and approved by the chartered SAB before transmittal to the EPA Administrator. Consistent with FACA, the chartered SAB makes a determination in a public meeting about each draft report and determines whether the report is ready to be transmitted to the EPA Administrator.

The Safe Drinking Water Act (SDWA) requires EPA to consult with the scientific community, including the Science Advisory Board, prior to publishing a list of currently unregulated contaminants that are known or anticipated to occur in public water systems and may require regulation under the SDWA (referred to as the Contaminant Candidate List, or CCL). This list is subsequently used to identify priority contaminants for further research needs and to make determinations on whether or not to regulate at least five contaminants from the CCL with national primary drinking water regulations. The draft CCL4 includes 100 chemicals or chemical groups and 12 microbial contaminants. Information about this advisory activity can be found on the Web at http://yosemite.epa.gov/sab/sabproduct.nsf/fedrgstr_activites/CCL%204?OpenDocument.

Availability of Meeting Materials: The agenda and materials in support of this teleconference will be available on the EPA Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer as noted above. Oral Statements: In general, individuals or groups requesting an oral presentation at a teleconference will be limited to three minutes. Each person making an oral statement should consider providing written comments as well so that the points presented orally can be expanded upon in writing. Interested parties should contact Mr. Carpenter, DFO, in writing (preferably via email) at the contact information noted above one week before the teleconference to be placed on the list of public speakers. Written Statements: Written statements should be supplied to the DFO, preferably via email, at the contact information noted above one week before each of the teleconferences so that the information may be made available to the Board members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Thomas Carpenter at (202) 564-4885 or carpenter.thomas@epa.gov. To request accommodation of a disability, please contact Mr. Carpenter preferably at least ten days prior to the teleconference to give EPA as much time as possible to process your request.

Dated: August 24, 2015.
Christopher S. Zarba,
Director, EPA Science Advisory Board Staff Office.

[FR Doc. 2015-21485 Filed 8-28-15; 8:45 am]

BILLING CODE 6560-50-P